DEPARTMENT OF COMMERCE

Foreign-Trade Zones Board

[B-56-2013]

Subzone 141F, Authorization of Production Activity, John D. Brush & Co., dba Sentry Group, (Safes and Secured Storage Devices), Pittsford and East Rochester, New York

On May 30, 2013, the County of Monroe, New York, grantee of FTZ 141, submitted a notification of proposed production activity to the Foreign-Trade Zones (FTZ) Board on behalf of John D. Brush & Co., dba Sentry Group, within Subzone 141F, in Pittsford and East Rochester, New York.

The notification was processed in accordance with the regulations of the FTZ Board (15 CFR part 400), including notice in the Federal Register inviting public comment (78 FR 34335, 6-7-2013). The FTZ Board has determined that no further review of the activity is warranted at this time. The production activity described in the notification is authorized, subject to the FTZ Act and the Board's regulations, including Section 400.14.

Dated: September 27, 2013.
Andrew McGilvray,
Executive Secretary.

[FR Doc. 2013-24284 Filed 10-2-13; 8:45 am]

BILLING CODE 3510-DS-P